DEPARTMENT OF COMMERCE

International Trade Administration

[A-822-804; A-822-806]

Steel Concrete Reinforcing Bars From Belarus and Carbon and Alloy Steel Wire Rod From Belarus: Final Results of Antidumping Duty Changed Circumstances Reviews

AGENCY: Enforcement and Compliance, International Trade Administration, Department of Commerce.

SUMMARY: On February 6, 2020, the Department of Commerce (Commerce) published the initiation of the changed circumstances reviews (CCRs) of steel concrete reinforcing bars from Belarus and carbon and alloy steel wire rod from Belarus. For these final results, Commerce concludes that Belarus continues to be a non-market economy (NME) country for purposes of the antidumping duty (AD) law, because its economy does not primarily operate on market principles.

DATES: Applicable October 23, 2020.

FOR FURTHER INFORMATION CONTACT: Christopher Loopesko, Office of Policy, Enforcement and Compliance, International Trade Administration, U.S. Department of Commerce, 1401 Constitution Avenue NW, Washington, DC 20230; telephone: (202) 482-0969.

SUPPLEMENTARY INFORMATION:

Background

On December 16, 2019, the Government of Belarus (GOB) requested that Commerce review Belarus' status as an NME country within the context of CCRs of the AD orders on steel concrete reinforcing bars and carbon and alloy steel wire rod.¹ On February 6, 2020, Commerce published in the Federal Register the notice of initiation of these CCRs.²

¹ See GOB's Letter, “Steel Concrete Reinforcing Bars from Belarus and Alloy Steel Wire Rod from Belarus: Request for the Department of Commerce to Initiate a Changed Circumstance Review on Behalf of the Republic of Belarus,” dated December 16, 2019.

² See Steel Concrete Reinforcing Bars from Belarus and Carbon and Alloy Steel Wire Rod from Belarus: Initiation of Antidumping Duty Changed Circumstances Reviews, 85 FR 6893 (February 6, 2020).

On March 9, 2020, Commerce received comments and information from Liberty Steel USA, Optimus Steel LLC, and Charter Steel (collectively, Domestic Wire Rod Producers); ³ Nucor Corporation (Nucor) and Commercial Metals Company (CMC), domestic producers of carbon and alloy steel wire rod; the Rebar Trade Action Coalition and its individual members, Nucor, Gerdau Ameristeel US Inc., CMC, Steel Dynamics, Inc., and Byer Steel Group, Inc., domestic producers of steel concrete reinforcing bar (collectively, Domestic Steel Producers); ⁴ and the GOB.⁵ On March 13, 2020, Commerce received comments and information from the United Steel, Paper and Forestry, Rubber, Manufacturing, Energy, Allied Industrial and Service Workers International Union (USW).⁶

³ See Domestic Wire Rod Producers' Letter, “Steel Concrete Reinforcing Bars from Belarus and Carbon and Alloy Steel Wire Rod from Belarus—Comments on Changed Circumstances Reviews re: Belarus Non-Market Economy Status,” dated March 9, 2020.

⁴ See Domestic Steel Producers' Letter, “Steel Concrete Reinforcing Bars from Belarus and Alloy Steel Wire Rod from Belarus: Comments Pursuant to 19 U.S.C. 1677(18)(B),” dated March 9, 2020.

⁵ See GOB's Letter, “Changed Circumstances Reviews—Belarus Nonmarket Economy Graduation: Government of Belarus Case Brief and Hearing Request,” dated March 9, 2020.

⁶ See USW's Letter, “Steel Concrete Reinforcing Bars from Belarus and Carbon and Alloy Steel Wire Rod from Belarus: Refiling of Comments,” dated March 13, 2020 (USW's Brief). The USW's brief was timely filed on March 6, 2020. However, the USW omitted certain certifications, and Commerce requested that the USW refile its submission with the proper certifications by March 13, 2020. Therefore, we consider this brief to be timely filed.

On April 6, 2020, Commerce received rebuttal briefs from Domestic Wire Rod Producers,⁷ Domestic Steel Producers,⁸ and the GOB.⁹

⁷ See Domestic Steel Producers' Letter, “Steel Concrete Reinforcing Bars from Belarus and Carbon and Alloy Steel Wire Rod from Belarus—Domestic Interested Parties' Rebuttal Comments on Belarus' NME Graduation Comments,” dated April 6, 2020.

⁸ See Domestic Steel Producers' Letter, “Steel Concrete Reinforcing Bars from Belarus and Alloy Steel Wire Rod from Belarus: Rebuttal Comments,” dated April 6, 2020.

⁹ See GOB's Letter, “Steel Concrete Reinforcing Bar and Carbon and Alloy Steel Wire Rod from Belarus: Government of Belarus Rebuttal Comments,” dated April 6, 2020.

Public Hearing

On September 30, 2020, Commerce held a public hearing via videoconference.¹⁰

¹⁰ See Public Hearing Transcript regarding “Antidumping Duty Changed Circumstances Reviews of Steel Concrete Reinforcing Bars from Belarus and Carbon and Alloy Steel Wire Rod from Belarus,” dated September 30, 2020.

Analysis of Comments Received

Commerce's analysis of the issues raised by parties to this review is included in the NME Analysis Memo.¹¹ The NME Analysis Memo is a public document on file electronically via Enforcement and Compliance's Antidumping and Countervailing Duty Centralized Electronic Service System (ACCESS). ACCESS is available to registered users at http://access.trade.gov. In addition, a complete version of the NME Analysis Memo can be accessed directly on the internet at http://enforcement.trade.gov/frn/index.html. The signed NME Analysis Memo and the electronic versions of the NME Analysis Memo are identical in content.

¹¹ See Memorandum, “Final Results of Changed Circumstances Reviews Regarding Belarus' Status as a Non-Market Economy Country,” dated concurrently with, and hereby adopted by, this notice (NME Analysis Memo).

Final Results of Changed Circumstances Reviews

These CCRs were conducted pursuant to section 771(18)(A) of the Tariff Act of 1930, as amended (the Act), which defines the term “non-market economy country” as any foreign country determined by Commerce not to “operate on market principles of cost or pricing structures, so that sales of merchandise in such country do not reflect the fair value of the merchandise.” Section 771(18)(B) of the Act lists six factors Commerce must consider in any inquiry made under section 771(18)(A) of the Act, and under section 771(18)(C)(i) of the Act, a country's NME country status remains in effect until revoked.

Section 771(18)(B) of the Act requires that Commerce take into account: (1) The extent to which the currency of the foreign country is convertible into the currency of other countries; (2) the extent to which wage rates in the foreign country are determined by free bargaining between labor and management; (3) the extent to which joint ventures or other investments by firms of other foreign countries are permitted in the foreign country; (4) the extent of government ownership or control of the means of production; (5) the extent of government control over the allocation of resources and over the price and output decisions of enterprises; and (6) such other factors as the administering authority (i.e., Commerce) considers appropriate. In these final results, Commerce concludes that Belarus remains an NME country, based on an analysis of these six factors. The Belarusian government's role in the economy and its relationship with markets and the private sector lead to fundamental distortions and allocative efficiency problems, and affect Belarusian costs or pricing structures that are relevant to Commerce's antidumping analysis. Commerce's analysis and reasoning in support of its conclusion are detailed in the NME Analysis Memo.

Notification to Interested Parties

This determination is issued and published in accordance with sections 751(b) and 771(18)(C)(ii) of the Act.

Dated: October 16, 2020.
Jeffrey I. Kessler,
Assistant Secretary for Enforcement and Compliance.

[FR Doc. 2020-23513 Filed 10-22-20; 8:45 am]

BILLING CODE 3510-DS-P